DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer at (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Government Performance and Results Act (GPRA) Client/Participant Outcomes Measure—(OMB No. 0930-0208)—Revision

SAMHSA is requesting approval to add 13 new questions to its existing CSAT Client-level GPRA instrument. Grantees will only be required to answer no more than four additional questions, per CSAT grant awarded, in addition to the other questions on the instrument. Currently, the information collected from this instrument is entered and stored in SAMSHA's Performance Accountability and Reporting System, which is a real-time, performance management system that captures information on the substance abuse treatment and mental health services delivered in the United States. Continued approval of this information collection will allow SAMHSA to continue to meet Government Performance and Results Modernization Act of 2010 reporting requirements that quantify the effects and accomplishments of its discretionary grant programs, which are consistent with OMB guidance.

SAMHSA and its Centers will use the data for annual reporting required by GPRA and comparing baseline with discharge and follow-up data. GPRA requires that SAMHSA's fiscal year report include actual results of performance monitoring for the three preceding fiscal years. The additional information collected through this process will allow SAMHSA to: (1) Report results of these performance outcomes; (2) maintain consistency with SAMHSA-specific performance domains, and (3) assess the accountability and performance of its discretionary and formula grant programs.

Proposed changes include the addition of 13 questions to the instrument. The proposed questions are:

1. Behavioral Health Diagnoses—Please indicate patient's current behavioral health diagnoses using the International Statistical Classification of Diseases, 10th revision, Clinical Modification (ICD-10-CM) codes listed below: (Select from list of Substance Use Disorder Diagnoses and Mental Health Diagnoses)

2. [For grantee, at discharge and follow-up] Which of the following occurred for the client, as a result of receiving treatment?

a. Client was reunited with child (children)

b. Client avoided out of home placement for child (children)

c. None of the above

3. [For grantee] Please indicate the following:

a. Was this client diagnosed with an opioid use disorder? (Yes/No)

i. If yes, indicate which FDA-approved medication the client received for the treatment of opioid use disorder. (Methadone, Buprenorphine, Naltrexone, Extended-release naltrexone, Client did not receive an FDA-approved medication for opioid use disorder)

1. If client received an FDA-approved medication for opioid use disorder, indicate the number of days the client received medication.

b. Was the client diagnosed with an alcohol use disorder? (Yes/No)

i. If yes, indicate which FDA-approved medication the client received for alcohol use disorder. (Naltrexone, Extended-release Naltrexone, Disulfiram, Acamprosate, Client did not receive an FDA-approved medication for alcohol use disorder)

1. If client received an FDA-approved medication for alcohol use disorder, indicate the number of days the client received medication

4. [For client] Did the [insert grantee name] help you obtain any of the following benefits?

a. Private health insurance

b. Medicaid

c. SSI/SSDI

d. TANF

e. SNAP

5. [For client] Which of the following were achieved as a result of receiving services or supports from [insert grantee name]?

a. Enrolled in school

b. Enrolled in vocational training

c. Currently employed

d. Living in stable housing

6. [For client] Please indicate the degree to which you agree or disagree with the following statement (Strongly Disagree, Disagree, Undecided, Agree, Strongly Agree).

a. Receiving treatment in a non-residential setting has enabled me to maintain parenting and family responsibilities while receiving treatment.

7. [For client] Please indicate the degree to which you agree or disagree with the following statement (Strongly Disagree, Disagree, Undecided, Agree, Strongly Agree).

a. Receiving treatment in a residential setting with my child (children) enabled me to focus on my treatment without the distractions of parenting and family responsibilities.

b. As a result of treatment, I feel I now have the skills and supports to balance parenting and managing my recovery.

8. [For grantee] Please indicate which type of funding was/will be used to pay for the SBIRT services provided to this client. (check all that apply):

a. Current SAMHSA grant funding

b. Other federal grant funding

c. State funding

d. Client's private insurance

e. Medicaid/Medicare

f. Other (Specify)

9. [For grantee at baseline] If client screened positive for substance misuse or a substance use disorder, was the client assigned to the following types of services?

1. Brief Intervention (Yes/No)

2. Brief Treatment (Yes/No)

3. Referral to Treatment (Yes/No)

[For grantee at follow-up and discharge] Did the client receive the following types of services?

1. Brief Intervention (Yes/No)

2. Brief Treatment (Yes/No)

3. Referral to Treatment (Yes/No)

10. [For grantee] Did this client get screened and referred to treatment for an opioid use disorder or an alcohol use disorder? Yes/No

a. If yes, did they receive an FDA-approved medication for the treatment of opioid use disorder or alcohol use disorder? Yes/No

i. If yes, specify the FDA-approved medication (methadone, buprenorphine, naltrexone, extended-release naltrexone) for opioid use disorder.

ii. If yes, specify the FDA-approved medication (naltrexone, extended-release naltrexone, disulfiram, acamprosate) for alcohol use disorder.

11. [For client] Did the program provide the following: (Asked of client at follow up)

a. HIV test—Yes/No

i. If yes, the result was—Positive/Negative/Indeterminate/Don't know

ii. If the result was Positive were you connected to treatment services—Yes/No

b. Hepatitis B (HBV) test—Yes/No

i. If yes, the result was—Positive/Negative/Indeterminate/Don't know

ii. If the result was Positive were you connected to treatment services—Yes/No

c. Hepatitis C (HCV) test—Yes/No

i. If yes, the result was—Positive/Negative/Indeterminate/Don't know

ii. If the result was Positive were you connected to treatment services—Yes/No

12. [For client] Indicate the degree to which you agree or disagree with each of the following statements by using: Strongly Disagree, Disagree, Neutral, Agree, Strongly Agree, Not Applicable

a. The use of technology accessed through (insert grantee or program name) helped me

i. Communicate with my provider

ii. Reduce my substance use

iii. Manage my mental health symptoms

iv. Support my recovery

13. [For client] To what extent has this program improved your quality of life? (To a Great Extent, Somewhat, Very Little, Not at All)

Table 1—Estimates of Annualized Hour Burden
SAMHSA tool | Number of respondents | Responses per respondent | Total number of responses | Burden hours per response | Total burden hours
Baseline Interview Includes SBIRT Brief TX, Referral to TX, and Program-specific questions | 179,668 | 1 | 179,668 | 0.60 | 107,801
Follow-Up Interview with Program-specific questions ¹ | 143,734 | 1 | 143,734 | 0.60 | 86,240
Discharge Interview with Program-specific questions ² | 93,427 | 1 | 93,427 | 0.60 | 56,056
SBIRT Program—Screening Only | 594,192 | 1 | 594,192 | 0.13 | 77,245
SBIRT Program—Brief Intervention Only Baseline | 111,411 | 1 | 111,411 | .20 | 22,282
SBIRT Program—Brief Intervention Only Follow-Up ¹ | 89,129 | 1 | 89,129 | .20 | 17,826
SBIRT Program—Brief Intervention Only Discharge ² | 57,934 | 1 | 57,934 | .20 | 11,587
CSAT Total | 885,271 |  | 1,269,495 |  | 379,037
Note: Numbers may not add to the totals due to rounding and some individual participants completing more than one form.
¹ It is estimated that 80% of baseline clients will complete this interview.
² It is estimated that 52% of baseline clients will complete this interview.

Send comments to Summer King, SAMHSA Reports Clearance Officer, 5600 Fishers Lane, Room 15E57-B, Rockville, Maryland 20857, OR email a copy to summer.king@samhsa.hhs.gov. Written comments should be received by July 2, 2018.

Summer King,
Statistician.

[FR Doc. 2018-09146 Filed 4-30-18; 8:45 am]

BILLING CODE 4162-20-P